ENVIRONMENTAL PROTECTION AGENCY

[OPP-66296 FRL-6808-4]

Oxadixyl; Cancellation Order

AGENCY: Environmental Protection Agency (EPA).

ACTION: Notice.

SUMMARY: This notice announces a cancellation order that was signed September 27, 2001, ordering cancellations as requested by Syngenta Crop Protection, Inc., and Gustafson LLC for registrations of pesticide products containing 2-methoxy-N-(2-oxo-1,3-oxazolidin-3-yl)-acet-2',6'-xylidide (oxadixyl) and accepted by EPA, pursuant to section 6(f) of the Federal Insecticide, Fungicide, and Rodenticide Act (FIFRA). This order follows up an August 15, 2001, notice of receipt of requests for registration cancellations. In that notice, EPA requested comments on the proposed cancellations and indicated that it would issue an order confirming the voluntary registration cancellations. Any distribution, sale, or use of canceled oxadixyl products is only permitted in accordance with the terms of the existing stocks provisions of this cancellation order.

DATES: The cancellations were effective September 27, 2001.

FOR FURTHER INFORMATION CONTACT: John W. Pates, Jr., Special Review and Reregistration Division (7508C), Office of Pesticide Programs, Environmental Protection Agency, 1200 Pennsylvania Ave., NW., Washington, DC 20460, telephone number: (703) 308-8195; fax number: (703) 308-7042; e-mail address: pates.john@epamail.epa.gov.

SUPPLEMENTARY INFORMATION:

I. General Information

A. Does this Action Apply to Me?

This action is directed to the public in general. You may be potentially affected by this action if you manufacture, sell, distribute, or use oxadixyl products. The Congressional Review Act, 5 U.S.C. 801, et seq. as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A fact sheet on oxadixyl and the voluntary cancellation decision is also available on EPA's website at http://www.epa.gov/pesticides/reregistration/status.htm.

2. In person. The Agency has established an official record for this action under docket control number OPP-66296. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Request to Cancel Registrations

A. Background

Oxadixyl is a member of the phenylamide family and is a systemic fungicide for seed treatment, which is registered for use on alfalfa, barley, beans, beets (garden), broccoli, Brussels sprouts, buckwheat, cabbage, carrot (including tops), cauliflower, celery, clover, collards, corn (field corn, pop corn, sweet corn), cotton, cucumber, eggplant, gourds, grass forage/fodder/hay, kale, kohlrabi, lespedeza, lettuce, lupine, melons (water melons, cantaloupe), millet (proso-broomcorn), mustard, oats, parsley, parsnip, peas, pepper (chili type), pimento, pumpkin, radish, rape, rhubarb, rutabaga, rye, sorghum, soybeans, spinach, squash (summer, winter), sugar beet, sunflower, tomato, trefoil, triticale, turnip, vetch, golf course turf, and residential lawns.

On April 23, 2001, and on May 11, 2001, the Agency received letters from Gustafson LLC (end-use product registrant) and Syngenta Crop Protection, Inc. (technical and end-use product registrant), respectively, requesting voluntary cancellation of all their products containing oxadixyl. Over the years, the market for these products has declined.

Pursuant to section 6(f)(1) of the Federal Insecticide, Fungicide, and Rodenticide Act (FIFRA), EPA announced receipt of this request from Syngenta Crop Protection, Inc. and Gustafson LLC in a Federal Register Notice published on August 15, 2001 (66 FR 42854) (FRL-6796-4). Relative to the notice, EPA provided a 30-day period. Both registrants requested that the Administrator waive the 180-day comment period provided under FIFRA section 6(f)(1)(c), and EPA granted these requests.

No public comments were received during the 30-day comment period.

B. Requests for Voluntary Cancellation of Products

Pursuant to FIFRA section 6(f)(1)(A), the registrants submitted requests for voluntary cancellation of registrations for their products containing oxadixyl. The registrations for which cancellations were requested are identified in the following Table 1.

Table 1.—Product Registration Cancellation Requests
Company | Registration Number | Product
Syngenta Crop Protection, Inc | 100-857 | Oxadixyl Technical Fungicide
| 100-858 | Sandofan 31F Fungicide
Gustafson LLC | 7501-97 | Anchor Flowable Fungicide

III. Cancellation Order

Pursuant to section 6(f)(1)(A) of FIFRA, EPA has approved the requested registration cancellations. Accordingly, the Agency orders that the registrations identified in Table 1 are canceled. Any distribution, sale, or use of existing stocks of the products identified in Table 1 in a manner inconsistent with the terms of this Order or the Existing Stock Provisions in Unit IV. of this Federal Register Notice will be considered a violation of section 12(a)(2)(K) of FIFRA and/or section 12(a)(1)(A) of FIFRA.

IV. Existing Stocks Provisions

For purposes of this Order, the term “existing stocks” is defined, pursuant to EPA's existing stocks policy June 26, 1991 (56 FR 29362) (FRL-3846-4), as those stocks of a registered pesticide product which are currently in the United States and which have been packaged, labeled, and released for shipment prior to the effective date of cancellation.

A. Sale and distribution

All sale and distribution of the existing stocks shall be unlawful as of 1 year from the effective date of the cancellation order, except for the purposes of shipping such stocks for export consistent with section 17 of FIFRA or for proper disposal.

B. Use of the Existing Stocks by Persons Other Than the Registrants Shall Be Legal Until Such Stocks Are Exhausted.

V. Notification of Intent to Revoke Tolerances

This Notice also serves as an advance notification that the Agency intends to revoke the related tolerance listed in 40 CFR, for the canceled registrations listed in this notice, unless there is a request from the public to support the tolerance for import purposes.

It is EPA's general practice to propose revocation of tolerances for residues of pesticide active ingredients for which FIFRA registrations no longer exist, to protect the food supply of the U.S. and to discourage the misuse of pesticides within the United States. In many cases the cancellation of a food use in the U.S. indicates that there are insufficient domestic residue data or other information to support the continuation of the tolerance and an uncertain amount of relevant data concerning residues on imported food. In the absence of relevant data, EPA is unable to make a safety finding regarding the treated food entering the U.S. Upon request, EPA will provide interested parties with its import tolerance policy and data requirements, explaining how an interested party should go about seeking to retain a tolerance for import purposes.

List of Subjects

Environmental protection, Pesticides and pests.

Dated: October 25, 2001.
Lois A. Rossi,
Director, Special Review and Reregistration Division, Office of Pesticide Programs.

[FR Doc. 01-27468 Filed 10-31-01; 8:45 am]

BILLING CODE 6560-50-S